DEPARTMENT OF ENERGY

Federal Energy Regulatory Commission

[Project No. 2242-078]

Eugene Water and Electric Board; Notice of Settlement Agreement and Soliciting Comments

Take notice that the following settlement agreement has been filed with the Commission and is available for public inspection.

a. Type of Application: Settlement agreement (amending settlement agreement filed October 23, 2008).

b. Project No.: 2242-078.

c. Date filed: November 30, 2016.

d. Applicant: Eugene Water and Electric Board.

e. Name of Project: Carmen-Smith Hydroelectric Project.

f. Location: On the McKenzie River in Lane and Linn counties, near the town of McKenzie Bridge, Oregon. The project occupies approximately 560 acres of the Willamette National Forest.

g. Filed Pursuant to: Rule 602 of the Commission's Rules of Practice and Procedure, 18 CFR 385.602.

h. Applicant Contact: Frank Lawson, General Manager, Eugene Water and Electric Board, 500 East 4th Avenue, P.O. Box 10148, Eugene, Oregon 97440-2148; (541) 685-7000.

i. FERC Contact: Dianne Rodman; (202) 502-6077 or dianne.rodman@ferc.gov.

j. Deadline for Filing Comments: January 2, 2017. Reply comments due January 17, 2017.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2242-078.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Eugene Water and Electric Board (EWEB) filed the settlement agreement on behalf of itself and the National Marine Fisheries Service, U.S. Fish and Wildlife Service, Forest Service, Oregon Department of Environmental Quality, Oregon Department of Fish and Wildlife, Oregon Parks and Recreation Department, Confederated Tribes of the Grand Ronde Community of Oregon, Confederated Tribes of Siletz Indians of Oregon, Confederated Tribes of the Warm Springs Reservation of Oregon, McKenzie Flyfishers, Rocky Mountain Elk Foundation, Inc., and Trout Unlimited. The purpose of the settlement agreement is to resolve among the signatories all issues associated with issuance of a new license for the project regarding water quality, instream flows, fish passage and habitat, wildlife, recreation, aesthetics, and cultural resources. EWEB requests that the Commission accept and incorporate into any new license for the project the protection, mitigation, and enhancement measures stated in the amended settlement agreement.

l. A copy of the settlement agreement is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

Dated: December 2, 2016.
Kimberly D. Bose,
Secretary.

[FR Doc. 2016-29620 Filed 12-9-16; 8:45 am]

BILLING CODE 6717-01-P